DEPARTMENT OF THE INTERIOR

Fish and Wildlife Service

[FWS-R4-ES-2014-N134; FXES11130400000C2-145-FF04E00000]

Endangered and Threatened Wildlife and Plants; Notice of Availability of a Technical/Agency Draft Recovery Plan for the Dusky Gopher Frog

AGENCY: Fish and Wildlife Service, Interior.

ACTION: Notice of availability and request for public comment.

SUMMARY: We, the Fish and Wildlife Service, announce the availability of the technical/agency draft recovery plan for the endangered dusky gopher frog. We request review and comment on this draft recovery plan from local, State, and Federal agencies, and the public.

DATES: In order to be considered, comments on the draft recovery plan must be received on or before November 10, 2014.

ADDRESSES: If you wish to review this technical/agency draft recovery plan, you may obtain a copy by visiting the Service's Mississippi Field Office Web site at http://www.fws.gov/mississippiES/ or by contacting Linda LaClaire, U.S. Fish and Wildlife Service, Mississippi Ecological Services Field Office, 6578 Dogwood View Parkway, Jackson, MS 39213; tel. (601) 321-1126. If you wish to comment, you may submit your comments by one of the following methods:

1. You may submit written comments and materials to Linda LaClaire, at the above address.

2. You may hand-deliver written comments to our Mississippi Field Office, at the above address, or fax them to (601) 965-4340.

3. You may send comments by email to linda_laclaire@fws.gov. Please include “Dusky Gopher Frog Recovery Plan Comments” on the subject line.

For additional information about submitting comments, see the “Request for Public Comments” section below.

FOR FURTHER INFORMATION CONTACT: Linda LaClaire (see ADDRESSES above).

SUPPLEMENTARY INFORMATION: We, the Fish and Wildlife Service (Service), announce the availability of the technical/agency draft recovery plan for the endangered dusky gopher frog (Rana sevosa). The draft recovery plan includes specific recovery objectives and criteria the dusky gopher frog would have to meet in order for us to downlist it to threatened under the Endangered Species Act of 1973, as amended (16 U.S.C. 1531 et seq.; Act). We request review and comment on this draft recovery plan from local, State, and Federal agencies, and the public.

Background

The dusky gopher frog was listed as an endangered species under the Act on December 4, 2001 (66 FR 62993). At the time of the original listing, the species was identified as the Mississippi gopher frog, a distinct population segment of what was then considered the dusky gopher frog (Rana capito sevosa). Subsequent to the listing, taxonomic research was completed that indicated the Mississippi gopher frog was different from other gopher frogs and warranted acceptance as its own species. In 2012, the Service officially recognized the listed entity as the dusky gopher frog, Rana sevosa, based on this research and the original description of the species given this name.

Dusky gopher frogs are terrestrial amphibians endemic to the longleaf pine ecosystem of southeastern Louisiana, coastal Mississippi, and coastal Alabama to the Mobile River drainage. Currently, it is only found at four localities in two Mississippi counties and has not been recently observed in either Alabama or Louisiana.

Approximately 625 hectares (1,544 acres) have been designated as critical habitat for the dusky gopher frog in St. Tammany Parish, Louisiana, and 1,996 hectares (4,933 acres) are designated in Forrest, Harrison, Jackson, and Perry Counties, Mississippi (77 FR 35118).

The dusky gopher frog has a Federal recovery priority number of 5, which indicates the species faces a high degree of threat and also has a low recovery potential.

Restoring an endangered or threatened animal or plant to the point where it is again a secure, self-sustaining member of its ecosystem is a primary goal of our endangered species program. To help guide the recovery effort, we prepare recovery plans for most listed species. Recovery plans describe actions considered necessary for conservation of the species; establish criteria for downlisting or delisting; and estimate time and cost for implementing recovery measures.

The Act requires the development of recovery plans for listed species, unless such a plan would not promote the conservation of a particular species. Section 4(f) of the Act requires us to provide public notice and an opportunity for public review and comment during recovery plan development. We will consider all information presented during a public comment period prior to approval of each new or revised recovery plan. We and other Federal agencies will take these comments into account in the course of implementing approved recovery plans.

Recovery Plan Components

The Service's recovery objectives are to work to reduce threats so that the dusky gopher frog may be downlisted to threatened status. Defining reasonable delisting criteria is not possible at this time, given the current low number of populations and individuals, lack of information about the species' biology, and magnitude of threats. Therefore, this recovery plan only establishes downlisting criteria for the dusky gopher frog.

Downlisting of the dusky gopher frog will be considered when:

1. Six viable metapopulations * are documented within blocks of recovery focus areas (described in Section II of the recovery plan) and are widely distributed across the range of the species. The six metapopulations would include a minimum of 12 breeding ponds and would be distributed as follows:

a. One metapopulation in Block #1 (Louisiana. Portions of St. Tammany, Tangipahoa, and Washington Parishes, west to the Tangipahoa River);

b. Two metapopulations each in Block #2 (South-Central Mississippi. North of State Hwy. 26, between the Pearl and Pascagoula Rivers; Forrest County and portions of Lamar, Pearl River, Perry, and Stone Counties) and Block #3 (South Mississippi. South of Hwy. 26, between the Pearl and Pascagoula Rivers; Hancock and Harrison Counties, and portions of Jackson, George, Pearl River, and Stone Counties); and

c. One metapopulation in either Block #4 (Eastern Mississippi. East of Pascagoula/Leaf Rivers; portions of George, Greene, Jackson, and Wayne Counties) or Block #5 (Alabama. West of the Mobile River Delta; Mobile and Washington Counties, small portion of Choctaw County).

2. Long-term monitoring (10+ years) of each metapopulation documents population viability (viability standard to be defined through a recovery task). The 10-year timeframe will allow monitoring recruitment events and other population attributes in a species that has been characterized by highly variable reproductive and survival rates. In each of at least two annual breeding events within a 3-year period, a total of 30 egg masses per metapopulation must be documented and recruitment must be verified.

3. Breeding and adjacent upland habitats within the six metapopulations are protected long term through management agreements, public ownership, or other means, in sufficient quantity and quality (to be determined by recovery task) to support growing populations.

4. Studies of the dusky gopher frog's biological and ecological requirements have been completed, and any required recovery measures discovered during these studies are developed and implemented.

* Information defining what constitutes a viable metapopulation can be found in the Service's Technical/Agency draft recovery plan.

Request for Public Comments

We request written comments on the draft recovery plan. We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533 (f).

Dated: September 3, 2014.
Mike Oetker,
Acting Regional Director, Southeast Region, U.S. Fish and Wildlife Service.

[FR Doc. 2014-21549 Filed 9-9-14; 8:45 am]

BILLING CODE 4310-55-P